DEPARTMENT OF ENERGY

Federal Energy Regulatory Commission

[Docket No. EL02-108-000]

Truckee Donner Public Utility District v. Idaho Power Company, IDACORP Energy, L.P., and IDACORP, Inc.; Notice of Complaint

July 24, 2002.

Take notice that on July 23, 2002, the Truckee Donner Public Utility District (Truckee) filed a complaint against Idaho Power Company, IDACORP Energy, L.P., and IDACORP, Inc. (the Idaho parties).

In the complaint, Truckee seeks reformation or termination of a long-term contract for the purchase of wholesale electric power from the Idaho parties, which the parties entered into (under Idaho Power's market-based tariff) during the recent crisis in Western electric power markets, and other related relief.

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before August 12, 2002.

Protests will be considered by the Commission in determining the appropriate action to be taken, but will not serve to make protestants parties to the proceeding. Any person wishing to become a party must file a motion to intervene. Answers to the complaint shall also be due on or before August 12, 2002. Copies of this filing are on file with the Commission and are available for public inspection. This filing may also be viewed on the web at http://www.ferc.gov using the “RIMS” link, select “Docket#” and follow the instructions (call 202-208-2222 for assistance).

Comments, protests, interventions and answers may be filed electronically via the Internet in lieu of paper. See, 18 CFR 385.2001(a)(1)(iii) and the instructions on the Commission's web site under the “e-Filing” link.

Linwood A. Watson, Jr.
Deputy Secretary

[FR Doc. 02-19202 Filed 7-29-02; 8:45 am]

BILLING CODE 6717-01-P